DEPARTMENT OF DEFENSE

Office of the Secretary

[Transmittal No. 24-0K]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0K.

Dated: November 13, 2025.
Aaron T. Siegel,
Alternate OSD Federal Register Liaison Officer, Department of Defense.

Transmittal No. 24-0K

Report of Enhancement or Upgrade of Sensitivity of Technology or Capability (Sec. 36(B)(5)(C), AECA)

(i) Purchaser: Government of Qatar

(ii) Sec. 36(b)(1), AECA Transmittal No.: 16-62

Date: December 7, 2016

Implementing Agency: Air Force

Funding Source: National Funds

(iii) Description: On December 7, 2016, Congress was notified by congressional certification transmittal number 16-62 of the possible sale, under Section 36(b)(1) of the Arms Export Control Act, of continued logistics support for eight (8) C-17 aircraft which included contract labor for sustainment engineering, on-site COMSEC support, Quality Assurance, support equipment repair, supply chain management, spares replenishment, maintenance, back shop support, and centralized maintenance support/associated services. Required upgrades included fixed installation satellite antenna, Mode 5+ installation sustainment, Automaniac Dependent Surveillance-Broadcast Out, and two special operations loading ramps. The estimated cost total was $700 million. There was no Major Defense Equipment (MDE) associated with this sale.

This transmittal reports the addition of the following non-MDE items: Cartridge Actuated Devices/Propellant Actuated Devices (CAD/PAD); KIV-77 MODE ⅘ Identification Friend or Foe (IFF) cryptographic Appliques; Computer Program Identification Numbers (CPINs); Precision Measurement Equipment Laboratory (PMEL) Calibration; Joint Mission Planning System (JMPS) with unique planning components; major modifications and maintenance support; aircraft or engine support equipment; spare and repair parts, consumables and accessories, and repair and return support; classified and unclassified software delivery and support; maps, classified and unclassified publications, and technical documentation; personnel training and training equipment; clothing, textiles, and individual equipment; U.S. Government and contractor engineering, technical, and logistics support services; studies and surveys; and other related elements of logistics and program support. There is no additional MDE being added and the total net cost of MDE remains $0. The estimated total value of the new non-MDE items is $816 million. The estimated total case value will increase to $1.516 billion.

(iv) Significance: The inclusion of this non-MDE represents an increase in capability over what was previously notified.

(v) Justification: This proposed sale will support the foreign policy and national security objectives of the United States by helping to improve the security of a friendly country that continues to be an important force for political stability and economic progress in the Middle East.

(vi) Date Report Delivered to Congress: September 24, 2024

[FR Doc. 2025-20036 Filed 11-17-25; 8:45 am]

BILLING CODE 6001-FR-P